DEPARTMENT OF THE INTERIOR

National Park Service

[NPS-WASO-NAGPRA-NPS0039406; PPWOCRADN0-PCU00RP14.R50000]

Notice of Intended Disposition: U.S. Department of Agriculture, Forest Service, Apache-Sitgreaves National Forests, Springerville, AZ

AGENCY: National Park Service, Interior.

ACTION: Notice.

SUMMARY: In accordance with the Native American Graves Protection and Repatriation Act (NAGPRA), the U.S. Department of Agriculture, Forest Service, Apache-Sitgreaves National Forests intends to carry out the disposition of human remains, associated funerary objects, unassociated funerary objects, sacred objects, or objects of cultural patrimony removed from Federal or Tribal lands to the lineal descendants, Indian Tribe, or Native Hawaiian organization with priority for disposition in this notice.

DATES: Disposition of the human remains or cultural items in this notice may occur on or after April 16, 2025. If no claim for disposition is received by March 17, 2026, the human remains or cultural items in this notice will become unclaimed human remains or cultural items.

ADDRESSES: Robert Lever, Apache-Sitgreaves National Forests, 30 South Chiricahua Drive, Springerville, AZ 85938, telephone (928) 333-6280, email robertlever@usda.gov.

SUPPLEMENTARY INFORMATION: This notice is published as part of the National Park Service's administrative responsibilities under NAGPRA. The determinations in this notice are the sole responsibility of the Apache-Sitgreaves National Forests, and additional information on the human remains or cultural items in this notice, including the results of consultation, can be found in the related records. The National Park Service is not responsible for the identifications in this notice.

Abstract of Information Available

Based on the information available, human remains representing, at least, two individuals have been reasonably identified. Artifacts in the vicinity indicate the site to have a Mogollon affiliation. The ancestral remains were surface collected by Arizona Game and Fish along Lakeside Road, Navajo County, Lakeside, AZ in 2016.

Determinations

The Apache-Sitgreaves National Forests has determined that:

• The human remains described in this notice represent the physical remains of two individuals of Native American ancestry.

• The Hopi Tribe of Arizona; Pueblo of Acoma, New Mexico; and the Zuni Tribe of the Zuni Reservation, New Mexico have priority for disposition of the human remains or cultural item described in this notice based on cultural affiliation.

Claims for Disposition

Written claims for disposition of the human remains or cultural items in this notice must be sent to the appropriate official identified in this notice under ADDRESSES. If no claim for disposition is received by March 17, 2026, the human remains or cultural items in this notice will become unclaimed human remains or cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains or cultural items in this notice may occur on or after April 16, 2025. If competing claims for disposition are received, the Apache-Sitgreaves National Forests must determine the most appropriate claimant prior to disposition. Requests for joint disposition of the human remains or cultural items are considered a single request and not competing requests. The Apache-Sitgreaves National Forests is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: January 24, 2025.
Melanie O'Brien,
Manager, National NAGPRA Program.

[FR Doc. 2025-04190 Filed 3-14-25; 8:45 am]

BILLING CODE 4312-52-P